DEPARTMENT OF LABOR

Employment and Training Administration

[TA-W-52,361]

EXFO Burleigh Products Group, Inc., Victor, NY; Notice of Termination of Investigation

Pursuant to section 221 of the Trade Act of 1974, as amended, an investigation was initiated on July 21, 2003, in response to a petition filed by a company official on behalf of workers at EXFO Burleigh Products Group, Inc., Victor, New York.

The petitioner has requested that the petition be withdrawn. Consequently, the investigation has been terminated.

Signed at Washington, DC, this 25th day of July, 2003.
Linda G. Poole,
Certifying Officer, Division of Trade Adjustment Assistance.

[FR Doc. 03-19863 Filed 8-4-03; 8:45 am]

BILLING CODE 4510-30-P